DEPARTMENT OF TRANSPORTATION

Federal Aviation Administration

14 CFR Part 71

[Docket No. FAA-2013-0859; Airspace Docket No. 13-AWA-4]

RIN 2120-AA66

Proposed Modification of Class B Airspace; Salt Lake City, UT

AGENCY: Federal Aviation Administration (FAA), DOT.

ACTION: Notice of proposed rulemaking (NPRM).

SUMMARY: This action proposes to amend the description of Area C and Area O of the Salt Lake City Class B airspace area by raising the floor of a small portion of Class B airspace between the Salt Lake City Class B surface area and the Hill Air Force Base (AFB) Class D airspace area. This action proposes to raise the Class B airspace floor in the northeast corner of Area C from 6,000 feet mean seal level (MSL) to 7,500 feet MSL, and redefine the new boundary segment using the power lines underlying the area. This would benefit and enhance non-participating VFR aircraft operations being flown north and south through the Salt Lake Valley over Interstate 15.

DATES: Comments must be received on or before February 3, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0859 and Airspace Docket No. 13-AWA-4 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0859 and Airspace Docket No. 13-AWA-4) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to Docket Nos. FAA-2013-0859 and Airspace Docket No. 13-AWA-4.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/regulations_policies/rulemaking/recently_published/.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd. Fort Worth, TX 76137.

Persons interested in being placed on a mailing list for future NPRMs should contact the FAA's Office of Rulemaking, (202) 267-9677, for a copy of Advisory Circular No. 11-2A, Notice of Proposed Rulemaking Distribution System, which describes the application procedure.

Background

On August 17, 2012, the FAA published a final rule modifying the Salt Lake City, UT Class B airspace area (77 FR 49712) with an effective date of October 18, 2012. Subsequent to this effective date, the FAA determined that a portion of Area C, with its 6,000 foot MSL floor, was extended farther northeast (northeast corner of Area C) than necessary based on operational experience with the new Salt Lake City Class B airspace configuration. The portion of Class B airspace in the proposal overlies a short segment of a heavily used VFR flyway that follows Interstate 15 (I-15) between the Salt Lake City Class B surface area and Hill AFB Class D airspace area. However, VFR pilots not in contact with air traffic control use I-15 as a convenient and easily viewed landmark for VFR aircraft flying north and south through the Salt Lake Valley. The 6,000 foot MSL Class B airspace floor in the northeast corner of Area C causes problems for VFR aircraft transitioning this area. VFR pilots following I-15 have found it difficult to avoid the Class B airspace due to the 6,000 foot MSL floor and the lack of good landmarks in the area. In addition, air traffic controllers routing VFR aircraft through the area over I-15 are required to either obtain and issue a Class B airspace clearance or vector the VFR aircraft north of the 6,000 foot MSL Class B airspace floor until clear of the area.

Raising the floor of Class B airspace from 6,000 feet MSL to 7,500 feet MSL in the northeast corner of Area C, and using the power lines located west of I-15 as a visual reference to identify the boundary where Class B airspace with a 6,000 foot MSL floor ends, would overcome the issues associated with Area C that are being experienced by VFR pilots and air traffic controllers. Additionally, raising the floor of Class B airspace in this area would significantly benefit and enhance VFR aircraft operations in the area without compromising containment of large turbine-powered aircraft conducting instrument procedures within Class B airspace.

The Proposal

The FAA is proposing an amendment to Title 14 of the Code of Federal Regulations (14 CFR) part 71 to modify the Salt Lake City Class B airspace area. This action proposes to raise the floor of a portion of Class B airspace in the northeast corner of Area C from 6,000 feet MSL to 7,500 feet MSL. The portion of Class B airspace being raised lies northeast of the power lines running northwest and southeast under Area C and would be incorporated into the description of Area O, which has a 7,500 foot MSL Class B airspace floor. The power lines under Area C would be used to visually define the new shared boundary between Area C and Area O in that area. These proposed modifications would enhance the safety and flow of VFR aircraft transitioning north and south in the Salt Lake Valley by following I-15, while continuing to support containment of large turbine-powered aircraft flying instrument procedures within Class B airspace.

The FAA is not proposing any modification actions to the Salt Lake City Class B airspace Areas A, B, and D through N. The proposed modifications to the Salt Lake City Class B airspace Area C and Area O subareas are outlined below.

Area C. Area C would include the airspace extending upward from 6,000 feet MSL to 12,000 feet MSL. This action would redefine the northeast boundary of Area C by a line drawn west of and parallel to the power lines that run northwest and southeast between the TCH 006° radial 9.5-mile DME at lat. 41°00′28″ N., long. 111°57′36″ W. and the TCH 016° radial 8.1-mile DME at lat. 40°58′48″ N., long. 111°55′58″ W. The floor of Class B airspace located immediately northeast of the power lines just described would be raised from 6,000 feet MSL to 7,500 feet MSL and incorporated into the adjacent Area O. The remainder of Area C would be unchanged.

Area O. Area O would include the airspace extending upward from 7,500 feet MSL to 12,000 feet MSL. The boundary of the area would be realigned to match the segment of the power lines that run northwest and southeast between the TCH 006° radial 9.5-mile DME at lat. 41°00′28″ N., long. 111°57′36″ W. and the TCH 016° radial 8.1-mile DME at lat. 40°58′48″ N., long. 111°55′58″ W. used to redefine the northeast boundary of Area C. The portion of Class B airspace incorporated into Area O would raise the floor of Class B airspace in that area from 6,000 feet MSL to 7,500 feet MSL. The remainder of Area O would be unchanged.

All radials listed in this proposed Salt Lake City Class B airspace area description modification are stated in degrees relative to True North. All geographic coordinates are stated in degrees, minutes, and seconds based on North American Datum 83.

Implementation of the proposed modification to the Salt Lake City Class B airspace area would continue to ensure containment of large turbine-powered aircraft within Class B airspace as required by FAA directive. Additionally, this proposed action would allow VFR aircraft to transition east/west, north of the Salt Lake City Class B surface area, and north/south, to and from Salt Lake City airport, using I-15 as an easily identifiable visual landmark outside of Class B airspace below 7,500 feet MSL. This proposed modification would enhance the safety and efficient management of aircraft operations in the Salt Lake City, UT, terminal area.

Class B airspace areas are published in paragraph 3000 of FAA Order 7400.9X, Airspace Designations and Reporting Points, dated August 7, 2013, and effective September 15, 2013, which is incorporated by reference in 14 CFR 71.1. The Class B airspace area listed in this document would be published subsequently in the Order.

Regulatory Evaluation Summary

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this proposed rule. The reasoning for this determination follows:

This proposed rule has the following benefits.

This proposed rule would improve the flow of air traffic, enhance safety, and reduce the potential for midair collision in the Salt Lake City Class B airspace.

Implementation of the proposed modification to the Salt Lake City Class B airspace area would continue to ensure containment of large turbine-powered aircraft within Class B airspace as required by FAA directive. Additionally, this proposed action would allow VFR aircraft to transition east/west, north of the Salt Lake City Class B surface area, and north/south, to and from Salt Lake City Airport, using I-15 as an easily identifiable visual landmark outside of Class B airspace below 7,500 feet MSL. This proposed modification would enhance the safety and efficient management of aircraft operations in the Salt Lake City, UT terminal area.

The FAA believes that this proposed rule would result in minimal costs.

The FAA has, therefore, determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the proposed rule would not have a significant economic impact on a substantial number of small entities as the economic impact is expected to be minimal.

Therefore as the acting FAA Administrator, I certify that this proposed rule would not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this proposed rule and determined that it would enhance safety and would not be considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million.

This proposed rule does not contain such a mandate; therefore, the requirements of Title II of the Act do not apply.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 3000 Subpart B—Class B Airspace.

* * * * *

ANM UT B Salt Lake City, UT [Amended]

Salt Lake City International Airport (Primary Airport)

(Lat. 40°47′18″ N., long. 111°58′40″ W.)

Wasatch VORTAC (TCH)

(Lat. 40°51′01″ N., long. 111°58′55″ W.)

Hill AFB (HIF)

(Lat. 41°07′26″ N., long. 111°58′23″ W.)

Boundaries.

By removing the current descriptions of Area C and Area O, and adding in its place:

Area C. That airspace extending upward from 6,000 feet MSL to and including 12,000 feet MSL, within an area bounded by a line beginning at the TCH 316° radial 11.6-mile DME at lat. 40°59′21″ N., long. 112°09′33″ W.; thence east to a point west of the power lines at the TCH 006° radial 9.5-mile DME at lat. 41°00′28″ N., long. 111°57′36″ W.; thence southeast to a point west of the power lines at the TCH 016° radial 8.1-mile DME at lat. 40°58′48″ N., long. 111°55′58″ W.; thence south to the TCH 020° radial 6.6-mile DME at lat. 40°57′13″ N., long. 111°55′56″ W.; thence west to a point southeast of Seagull Point on Antelope Island at the TCH 304° radial 9.3-mile DME at lat. 40°56′13″ N., long. 112°09′05″ W.; thence north to the point of beginning.

Area O. That airspace extending upward from 7,500 feet MSL to and including 12,000 feet MSL, within an area bounded by a line beginning at the intersection of U.S. Highway 89 and a 4.3-mile radius from Hill AFB at the TCH 014° radial 13.6-mile DME at lat. 41°04′11″ N., long. 111°54′39″ W.; thence clockwise along the 4.3-mile radius from Hill AFB to 1700 South St. at the TCH 347° radial 14.7-mile DME at lat. 41°05′20″ N., long. 112°03′21″ W.; thence west along W. 1700 South St. to the TCH 329° radial 16.8-mile DME at lat. 41°05′22″ N., long. 112°10′20″ W.; thence south to the TCH 316° radial 11.6-mile DME at lat. 40°59′21″ N., long. 112°09′33″ W.; thence east to a point west of the power lines at the TCH 006° radial 9.5-mile DME at lat. 41°00′28″ N., long. 111°57′36″ W.; thence southeast to a point west of the power lines at the TCH 016° radial 8.1-mile DME at lat. 40°58′48″ N., long. 111°55′58″ W.; thence south to the TCH 020° radial 6.6-mile DME at lat. 40°57′13″ N., long. 111°55′56″ W.; thence south to the intersection of Redwood Rd. and W. 500 South St. at the TCH 049° radial 3.1-mile DME at lat. 40°53′02″ N., long. 111°55′48″ W.; thence south to Center St. at the TCH 102° radial 2.3-mile DME at lat. 40°50′32″ N., long. 111°55′57″ W.; thence east along Center St. to I-15 at the TCH 099° radial 3-mile DME at lat. 40°50′32″ N., long. 111°54′56″ W.; thence north along I-15 to U.S. Highway 89 at the TCH 024° radial 9-mile DME at lat. 40°59′14″ N., long. 111°54′05″ W.; thence north along U.S. Highway 89 to the point of beginning.

Issued in Washington, DC, on December 12, 2013.
Donna Warren,
Acting Manager, Airspace Policy and Regulations Group.

[FR Doc. 2013-30097 Filed 12-18-13; 8:45 am]

BILLING CODE 4910-13-P